DEPARTMENT OF COMMERCE

National Oceanic and Atmospheric Administration

RIN 0648-XF696

Marine Mammals; File Nos. 21217 and 21397

AGENCY: National Marine Fisheries Service (NMFS), National Oceanic and Atmospheric Administration (NOAA), Commerce.

ACTION: Notice; receipt of applications.

SUMMARY: Notice is hereby given that the following entities have applied in due form for a permit to receive, import, and/or export marine mammal parts for scientific research:

File No. 21217: Aaron Roberts, Ph.D., University of North Texas, Biological Sciences, 1155 Union Circle, #310559, Denton, TX 76203;

File No. 21397: Burke Museum, Mammalogy [Julie Stein, Responsible Party], University of Washington, Box 353010, Seattle, WA 98195.

DATES: Written, telefaxed, or email comments must be received on or before October 20, 2017.

ADDRESSES: The applications and related documents are available for review by selecting “Records Open for Public Comment” from the “Features” box on the Applications and Permits for Protected Species (APPS) home page, https://apps.nmfs.noaa.gov, and then selecting the appropriate File No. from the list of available applications.

These documents are also available upon written request or by appointment in the Permits and Conservation Division, Office of Protected Resources, NMFS, 1315 East-West Highway, Room 13705, Silver Spring, MD 20910; phone (301) 427-8401; fax (301) 713-0376.

Written comments on these applications should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on the application would be appropriate.

FOR FURTHER INFORMATION CONTACT: Lisa Lierheimer or Jennifer Skidmore, (301) 427-8401.

SUPPLEMENTARY INFORMATION: The subject permits are requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR 222-226), and/or the Fur Seal Act of 1966, as amended (16 U.S.C. 1151 et seq.).

File No. 21217: The applicant proposes to import biological samples from up to 30 harp seals (Pagophilus groenlandicus) and 30 hooded seals (Cystophora cristata) from Canada to study the effects of polybrominated diphenyl ethers (PBDEs) on the fitness and immune function in two species of phocid seals. No takes of live animals would be authorized under this permit. The permit would be valid for up to five years after issuance.

File No. 21397: The applicant proposes to receive, import, and export biological samples from up to 10 cetaceans and 10 pinnipeds (excluding walrus) annually for scientific research, curation, and education. Receipt, import, and export is requested worldwide. Sources of samples may include marine mammal strandings in foreign countries, foreign and domestic subsistence harvests, captive animals, other authorized researchers or curated collections, and marine mammals that died incidental to commercial fishing operations in the U.S. and foreign countries, where such take is legal. The requested duration of the permit is 5 years.

In compliance with the National Environmental Policy Act of 1969 (42 U.S.C. 4321 et seq.), an initial determination has been made that the proposed activities are categorically excluded from the requirement to prepare an environmental assessment or environmental impact statement.

Concurrent with the publication of this notice in the Federal Register, NMFS is forwarding copies of these applications to the Marine Mammal Commission and its Committee of Scientific Advisors.

Dated: September 14, 2017.
Julia Harrison,
Chief, Permits and Conservation Division, Office of Protected Resources, National Marine Fisheries Service.

[FR Doc. 2017-19977 Filed 9-19-17; 8:45 am]

BILLING CODE 3510-22-P